SECURITIES AND EXCHANGE COMMISSION

[File No. 500-1]

ForceField Energy Inc.; Order of Suspension of Trading

April 21, 2015.

It appears to the Securities and Exchange Commission that there is a lack of current and accurate information concerning the securities of ForceField Energy Inc. (“FNRG”) because of concerns about the adequacy and accuracy of information available to investors concerning the funding of recent articles and promotions touting FNRG, including for example in articles published on December 9, 2014 and February 26, 2015. Questions have also arisen concerning potential manipulative activity of FNRG's stock, including transactions between February 25 and April 2, 2015 and the funding of those transactions. FNRG is a Nevada corporation with its principal office in New York, New York. It is listed on NASDAQ under the symbol FNRG.

The Commission is of the opinion that the public interest and the protection of investors require a suspension of trading in the securities of the above-listed company.

Therefore, it is ordered, pursuant to Section 12(k) of the Securities Exchange Act of 1934, that trading in the securities of the above-listed company is suspended for the period from 9:30 a.m. EDT on April 21, 2015 through 11:59 p.m. EDT, on May 4, 2015.

By the Commission.
Jill M. Peterson,
Assistant Secretary.

[FR Doc. 2015-09555 Filed 4-21-15; 4:15 pm]

BILLING CODE 8011-01-P